DEPARTMENT OF TRANSPORTATION

Federal Aviation Administration

14 CFR Part 71

[Docket No. FAA-2024-1364; Airspace Docket No. 24-ACE-1]

RIN 2120-AA66

Amendment of VOR Federal Airways V-216 and V-380, and Revocation of VOR Federal Airways V-549 and V-551 in the Vicinity of Mankato, KS

AGENCY: Federal Aviation Administration (FAA), DOT.

ACTION: Final rule.

SUMMARY: This action amends Very High Frequency Omnidirectional Range (VOR) Federal Airway V-216 and revokes VOR Federal Airways V-549 and V-551. VOR Federal Airway V-380 was revoked by a separate airspace docket and is removed from this action. The FAA is taking this action due to the planned decommissioning of the VOR portion of the Mankato, KS (TKO), VOR/Tactical Air Navigation (VORTAC) navigational aid (NAVAID). The Mankato VOR is being decommissioned in support of the FAA's VOR Minimum Operational Network (MON) program.

DATES: Effective date 0901 UTC, February 20, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Colby Abbott, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

The FAA published a notice of proposed rulemaking for Docket No. FAA-2024-1364 in the Federal Register (89 FR 42828; May 16, 2024), proposing to amend VOR Federal Airways V-216 and V-380, and revoke VOR Federal Airways V-549 and V-551 due to the planned decommissioning of the VOR portion of the Mankato, KS, VORTAC NAVAID. Interested parties were invited to participate in this rulemaking effort by submitting written comments on the proposal. No comments were received.

Differences From the NPRM

Subsequent to the NPRM, the FAA published a final rule for Docket No. FAA-2023-2483 in the Federal Register (89 FR 48504; June 7, 2024), amending VOR Federal Airway V-216 by removing the airway segment between the Lamoni VOR/Distance Measuring Equipment (VOR/DME) and the Iowa City, IA, VOR/DME. That airway amendment, effective September 5, 2024, is included in this rule.

Additionally, subsequent to the NPRM, the FAA published a final rule for Docket No. FAA-2023-2466 in the Federal Register (89 FR 48506; June 7, 2024), revoking VOR Federal Airway V-380 effective September 5, 2024. As a result, VOR Federal Airway V-380 is removed from this docket action.

Incorporation by Reference

VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending VOR Federal Airway V-216 and revoking VOR Federal Airways V-549 and V-551. The FAA is taking this action due to the planned decommissioning of the VOR portion of the Mankato, KS, VORTAC. The airway actions are described below.

V-216: Prior to this final rule, V-216 extended between the Lamar, IA, VOR/DME and the Mankato, KS, VORTAC; and between the Iowa City, IA, VOR/DME and the Janesville, WI, VOR/DME. The airway segment between the Hill City, KS, VORTAC and the Mankato VORTAC is removed. As amended, the airway is changed to now extend between the Lamar VOR/DME and the Hill City VORTAC, and between the Iowa City VOR/DME and the Janesville VOR/DME.

V-549: Prior to the final rule, V-549 extended between the Hays, KS, VORTAC and the Mankato, KS, VORTAC. The airway is removed in its entirety.

V-551: Prior to this final rule, V-551 extended between the Salina, KS, VORTAC and the Mankato, KS, VORTAC. The airway is removed in its entirety.

The NAVAID radials listed in the V-216 description in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending VOR Federal Airway V-216 and revoking VOR Federal Airways V-549 and V-551, due to the planned decommissioning of the VOR portion of the Mankato, KS, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-216 [Amended]

From Lamar, CO; to Hill City, KS. From Iowa City, IA; INT Iowa City 062° and Janesville, WI, 240° radials; to Janesville.

* * * * *

V-549 [Removed]

* * * * *

V-551 [Removed]

* * * * *

Issued in Washington, DC, on December 3, 2024.
Richard Lee Parks,
Manager (A), Rules and Regulations Group.

[FR Doc. 2024-28576 Filed 12-5-24; 8:45 am]

BILLING CODE 4910-13-P